DEPARTMENT OF HEALTH AND HUMAN SERVICES

National Institutes of Health

National Institute on Alcohol Abuse and Alcoholism; Notice of Closed Meeting

Pursuant to section 1009 of the Federal Advisory Committee Act, as amended, notice is hereby given of the following meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Alcohol Abuse and Alcoholism Special Emphasis Panel; Review of Alcohol Research Centers (RFA AA-23-001).

Date: June 11, 2024.

Time: 1:00 p.m. to 3:00 p.m.

Agenda: To review and evaluate grant applications.

Place: National Institute of Health, National Institute on Alcohol Abuse and Alcoholism, 6700B Rockledge Drive, Bethesda, MD 20892 (Virtual Meeting).

Contact Person: Ranga Srinivas, Ph.D., Chief, Extramural Project Review Branch, National Institute on Alcohol Abuse and Alcoholism, 6700 B Rockledge Drive, Room 2114, National Institutes of Health, Bethesda, MD 20892, (301) 451-2067, srinivar@mail.nih.gov.

This notice is being published less than 15 days from the meeting date due to exceptional circumstances. The technical and scientific peer review of applications assigned to this committee must take place urgently so that the Alcohol Research Centers program, which is a major research initiative for NIAAA, can be reviewed in time for the September 2024 Council and awarded by the end of the calendar year. If the meeting is not held on June 11, 2024, committee members with the requisite scientific expertise will be unable to attend due to scheduling conflicts.

(Catalogue of Federal Domestic Assistance Program Nos. 93.273, Alcohol Research Programs, National Institutes of Health, HHS)

Dated: June 3, 2024.
David W. Freeman,
Supervisory Program Analyst, Office of Federal Advisory Committee Policy.

[FR Doc. 2024-12474 Filed 6-6-24; 8:45 am]

BILLING CODE 4140-01-P